DEPARTMENT OF TRANSPORTATION

Federal Railroad Administration

Agency Request for Emergency Processing of Collection of Information by the Office of Management and Budget

AGENCY: Federal Railroad Administration, DOT.

ACTION: Notice.

SUMMARY: In accordance with the Paperwork Reduction Act of 1995 and its implementing regulations, the Federal Railroad Administration (FRA) hereby announces that it is seeking an extension of the following currently approved information collection activities. These information collection activities received a six-month emergency approval from OMB. FRA seeks this extension while it works on developing a proposed rule related to the same topic of railroad operating rules. Before submitting these information collection requirements for clearance by the Office of Management and Budget (OMB), FRA is soliciting public comment on specific aspects of the activities identified below.

DATES: Comments must be received no later than May 30, 2006.

ADDRESSES: Submit written comments on any or all of the following proposed activities by mail to either: Mr. Robert Brogan, Office of Safety, Planning and Evaluation Division, RRS-21, Federal Railroad Administration, 1120 Vermont Ave., NW., Mail Stop 17, Washington, DC 20590, or Mr. Victor Angelo, Office of Support Systems, RAD-20, Federal Railroad Administration, 1120 Vermont Ave., NW., Mail Stop 35, Washington, DC 20590. Commenters requesting FRA to acknowledge receipt of their respective comments must include a self-addressed stamped postcard stating, “Comments on OMB control number 2130-0568.” Alternatively, comments may be transmitted via facsimile to (202) 493-6230 or (202) 493-6170, or e-mail to Mr. Brogan at robert.brogan@fra.dot.gov, or to Mr. Angelo at victor.angelo@fra.dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1120 Vermont Ave., NW., Mail Stop 17, Washington, DC 20590 (telephone: (202) 493-6292) or Victor Angelo, Office of Support Systems, RAD-20, RAD-20, Federal Railroad Administration, 1120 Vermont Ave., NW., Mail Stop 35, Washington, DC 20590 (telephone: (202) 493-6470). (These telephone numbers are not toll-free.)

SUPPLEMENTARY INFORMATION: The Paperwork Reduction Act of 1995 (PRA), Pub. L. No. 104-13, § 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of currently approved information collection activities that FRA will submit for clearance by OMB as required under the PRA:

OMB Control Number: 2130-0568.

Title: FRA Emergency Order No. 24, Notice No. 1.

Abstract: The collection of information is due to a recent rash of railroad accidents caused by human failure to properly set hand-operated main track switches in non-signaled territory. FRA has determined that public safety compels the issuance of Emergency Order No. 24 and necessitates this collection of information in order that railroads modify their operating rules and take certain other actions necessary to ensure that their employees who operate hand-operated main track switches in non-signaled territory restore the switches to their proper (normal) position after use. The Emergency Order is intended to reduce the risk of serious injury or death both to railroad employees and the general public.

Form Number(s): N/A.

Affected Public: Businesses.

Respondent Universe: 685 railroads; 100,000 Railroad Employees.

Frequency of Submission: One-time; On occasion.

Reporting Burden
Emergency order item no. | Respondent universe | Total annual responses | Average time per response | Total annual burden hours | Total annual burden cost
(1)—Instruction On Railroad Operating Rule—Operation of manual main track switches in non-signal territory | 685 Railroads; 100,000 employees | 100,000 instruction sessions | 60 minutes | 100,000 hours | $4,700,000.
—Instruction Records | 685 Railroads | 100,000 records | 2 minutes | 3,333 hours | $126,654.
(2) Hand-Operated Main Track Switches—Confirmation of Switch Position | 6,000 Dispatchers | 60,000 verbal confirmations | 30 seconds | 500 hours | $20,500.
—Review of SPAF by Train Dispatcher | 6,000 Dispatchers | 15,000 reviews | 5 seconds | 21 hours | $987.
(3) Switch Position Awareness Form (SPAF) | 100,000 employees | 20,000 forms | 3 minutes | 1,000 hours | $47,000.
(4) Job Briefings | 100,000 employees | 60,000 briefings | 1 minute | 1,000 hours | $47,000.
(5) Radio Communication—Crewmember communication with engineer | 100,000 employees | 60,000 verbal communications | 15 seconds | 250 hours | $11,750.
—Notation of Inoperable Radio on SPAF | 900,000 Crew members | 500 form entries | 5 seconds | 3 hours | $141.
(6) Operational Tests and Inspections | 685 Railroads | Burden Covered Under OMB No. 2130-0035 | Burden Covered Under OMB No. 2130-0035 | Burden Covered Under OMB No. 2130-0035 | Burden Covered Under OMB No. 2130-0035
(7) Distribution of Emergency Order—Copies to Employees | 685 Railroads; 100,000 Employees | 100,000 copies | 2 seconds | 56 hours | $2,128.
—Written Receipt and Acknowledgment of Copy | 685 Railroads; 100,000 Employees | 100,000 receipts + 100,000 records | 1 second + 1 second | 56 hours | $2,380.
(8) Relief—Petitions For Special Approval | 685 Railroads | 10 petitions | 60 minutes | 10 hours | $380.

Total Responses: 715,510.

Total Annual Estimated Burden: 106,229 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on March 6, 2006.
Belinda Ashton,
Acting Director, Office of Budget, Federal Railroad Administration.

[FR Doc. E6-3479 Filed 3-30-06; 8:45 am]

BILLING CODE 4910-06-P